NUCLEAR REGULATORY COMMISSION

[Docket No. 50-271; License No. DPR-28]

Entergy Nuclear Vermont Yankee, LLC and Entergy Nuclear Operations, Inc.; Notice of Issuance of Director's Decision Under 10 CFR 2.206

Notice is hereby given that the Director, Office of Nuclear Reactor Regulation, has issued a Director's Decision with regard to a petition dated August 27, 2007, filed pursuant to Title 10 of the Code of Federal Regulations (CFR), § 2.206, by Mr. Raymond Shadis on behalf of the New England Coalition (NEC), hereinafter referred to as the “petitioner.” The petition was supplemented on October 3, 2007. The NEC petition requested that the Nuclear Regulatory Commission (NRC or the Commission) promptly restore reasonable assurance of adequate protection of public health and safety that is now degraded by the failure of the licensee and its employees to report adverse conditions leading to a reduction in plant safety margins at the Vermont Yankee Nuclear Power Station (Vermont Yankee), or otherwise to order a derate or shutdown of Vermont Yankee until it can be determined to what extent Vermont Yankee is being operated in an unanalyzed condition. Specifically, the petition requested the following actions: (1) NRC completion of a Diagnostic Evaluation Team examination or Independent Safety Assessment of Vermont Yankee to determine the extent of condition of non-conformances, reportable items, hazards to safety, and the root causes thereof; (2) NRC completion of a safety culture assessment to determine why worker safety concerns were not previously reported and why assessments of safety culture under the Reactor Oversight Process failed to capture the fact or reasons that safety concerns have gone unreported; (3) derate Vermont Yankee to 50% of licensed thermal power with a mandatory hold at 50% until a thorough and detailed structural and performance analysis of the cooling towers, including the alternate cooling system, has been completed by the licensee; reviewed and approved by NRC; and until the above steps (1) and (2) have been completed; and (4) NRC investigation and determination of whether or not similar non-conforming conditions and causes exist at other Entergy-run nuclear power plants. On September 6, 2007, the NRC staff notified the petitioner that, based on the recommendation of the Petition Review Board (PRB), the request for immediate action to derate or shutdown Vermont Yankee was denied because the petition did not identify any safety hazards sufficient to warrant those actions.

Mr. Raymond Shadis, in his capacity as the petitioner's consultant, participated in two telephone conference calls with the NRC's PRB on September 12, 2007, and October 3, 2007, to discuss the petition. Those discussions were considered in reaching the PRB's final recommendation regarding the petitioner's request for action and in establishing the schedule for the review of the petition. The PRB confirmed its initial recommendation to reject requests (1), (2), and (4) for review under the Section 2.206 process and accept a portion of request (3) related to the cooling tower cell collapse.

In an acknowledgment letter dated November 6, 2007, the NRC informed the petitioner that the petition was accepted, in part, for review under 10 CFR 2.206, and had been referred to the Office of Nuclear Reactor Regulation for appropriate action. The petitioner's request to derate Vermont Yankee was denied, but the petition was granted, in part, by the NRC staff's review of Entergy's evaluation and analysis of the partial cooling tower collapse and associated causes.

The NRC staff sent a copy of the proposed Director's Decision to the petitioner for comment on February 29, 2008. The NRC staff did not receive any comments on the proposed DD.

The Director of the Office of Nuclear Reactor Regulation has determined that the NRC has in effect granted the petitioner's request. The reasons for this decision are explained in the Director's Decision pursuant to 10 CFR 2.206 (DD-08-01). The petitioner's concern regarding the partial collapse of the cooling tower cell at Vermont Yankee has been adequately resolved such that no further action is needed.

The documents cited in this Director's Decision are available for inspection at the Commission's Public Document Room (PDR), located at One White Flint North, Public File Area O1 F21, 11555 Rockville Pike (first floor), Rockville, Maryland and from the NRC's Agencywide Documents Access and Management System (ADAMS) Public Electronic Reading Room on the Internet at the NRC Web site, http://www.nrc.gov/reading-rm/adams.html. Persons who do not have access to ADAMS or who encounter problems in accessing the documents located in ADAMS, should contact the NRC PDR Reference staff by telephone at 1-800-397-4209 or 301-415-4737, or by e-mail to pdr@nrc.gov.

A copy of the Director's Decision will be filed with the Secretary of the Commission for the Commission to review in accordance with 10 CFR 2.206 of the Commission's regulations. As provided for by this regulation, the Director's Decision will constitute the final action of the Commission 25 days after the date of the decision, unless the Commission, on its own motion, institutes a review of the Director's Decision within that time.

Dated at Rockville, Maryland, this 28th day of April 2008.
For the Nuclear Regulatory Commission.
J.E. Dyer,
Director, Office of Nuclear Reactor Regulation.

[FR Doc. E8-9798 Filed 5-2-08; 8:45 am]

BILLING CODE 7590-01-P